DEPARTMENT OF LABOR

Employment and Training Administration

[TA-W-59,314]

Anritsu Instruments Company (Formerly Nettest), Utica, NY; Notice of Termination of Investigation

Pursuant to section 221 of the Trade Act of 1974, as amended, an investigation was initiated on May 2, 2006 in response to a worker petition filed by a company official on behalf of workers of Anritsu Instruments Company, (Formerly Nettest), Utica, New York.

The petitioner has requested that the petition be withdrawn. Consequently, the investigation has been terminated.

Signed at Washington, DC, this 8th day of May 2006.
Linda G. Poole,
Certifying Officer, Division of Trade Adjustment Assistance.

[FR Doc. E6-7936 Filed 5-23-06; 8:45 am]

BILLING CODE 4510-30-P